ENVIRONMENTAL PROTECTION AGENCY

[FRL-8475-2]

Clean Water Act Section 303(d): Final Agency Action on 52 Arkansas Total Maximum Daily Loads (TMDLs)

AGENCY: Environmental Protection Agency (EPA).

ACTION: Notice of availability.

SUMMARY: This notice announces the final agency action on 52 TMDLs established by EPA Region 6 for waters listed in the State of Arkansas, under section 303(d) of the Clean Water Act (CWA). These TMDLs were completed in response to the lawsuit styled Sierra Club, et al. v. Clifford, et al., No. LR-C-99-114. Documents from the administrative record files for the final 52 TMDLs, including TMDL calculations may be viewed at www.epa.gov/region6/6wq/npdes/tmdl/index.htm.

ADDRESSES: The administrative record files for these 52 TMDLs may be obtained by writing or calling Ms. Diane Smith, Environmental Protection Specialist, Water Quality Protection Division, U.S. Environmental Protection Agency Region 6, 1445 Ross Ave., Dallas TX 75202-2733. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 52 TMDLs

By this notice EPA is taking final agency action on the following 52 TMDLs for waters located within the state of Arkansas:

Segment-reach | Waterbody name | Pollutant
08040205-005 | Deep Bayou | Fecal coliform and E. coli.
08040205-013 | Bayou Bartholomew | Fecal coliform and E. coli.
08040205-901 | Bearhouse Creek | Fecal coliform and E. coli.
08040205-902 | Harding Creek | Fecal coliform and E. coli.
08040205-903 | Melton's Creek | Fecal coliform and E. coli.
08040205-904 | Jacks Bayou | Fecal coliform and E. coli.
08040205-905 | Cross Bayou | Fecal coliform and E. coli.
08040205-907 | Chemin-A-Haut Creek | Fecal coliform and E. coli.
11010012-003 | Cooper Creek | Fecal coliform and E. coli.
11010012-008 | Strawberry River | Fecal coliform and E. coli.
11010012-010 | Little Strawberry River | Fecal coliform and E. coli.
11010012-011 | Strawberry River | Fecal coliform and E. coli.
11010012-014 | Reeds Creek | Fecal coliform and E. coli.
11010012-015 | Mill Creek | Fecal coliform and E. coli.
11010012-016 | Caney Creek | Fecal coliform and E. coli.
11010009-902 | Data Creek | Fecal coliform and E. coli.
11010014-004 | Overflow Creek | Fecal coliform and E. coli.
11010014-006 | Overflow Creek | Fecal coliform and E. coli.
11010014-007 | Little Red River | Fecal coliform and E. coli.
11010014-008 | Little Red River | Fecal coliform and E. coli.
11010014-009 | Ten Mile Creek | Fecal coliform and E. coli.
11010014-010 | Little Red River | Fecal coliform and E. coli.
11010014-012 | Little Red River | Fecal coliform and E. coli.
11010014-027 | Middle Fork Little Red River | Fecal coliform and E. coli.
11010014-028 | Middle Fork Little Red River | Fecal coliform and E. coli.
11010014-038 | South Fork Little Red River | Fecal coliform and E. coli.

EPA requested the public to provide EPA with any significant data or information that might impact the 52 BMDKLs at Federal Register Notice: Volume 72, Number 124, pages 35466 and 35467 (June 28, 2007). No comments were received.

Dated: September 21, 2007.
William K. Honker,
Deputy Director, Water Quality Protection Division, EPA Region 6.

[FR Doc. 07-4827 Filed 9-28-07; 8:45 am]

BILLING CODE 6560-50-M